DEPARTMENT OF THE INTERIOR

Fish and Wildlife Service

Notice of Issuance of Permits for Incidental Take

AGENCY: Fish and Wildlife Service, Interior.

ACTION: Notice of Issuance of 229 Permits for Incidental Take of Threatened and Endangered Species.

SUMMARY: Between April 21, 2000 and December 31, 2002, Region 2 of the Fish and Wildlife Service issued 229 permits for the incidental take of threatened and endangered species, pursuant to section 10(a)(1)(B) of the Endangered Species Act of 1973 (Act), as amended. Of the 229 permits issued, in the greater Austin, Texas area; 9 were for the golden-cheeked warbler (Dendroica chrysoparia) (GCW) related to the Balcones Canyonlands Preserve, and 220 were for the Houston toad (Bufo houstonesis) (HT). In addition, between October 1, 2000, and September 30, 2001, 5 permits were amended, one for several karst invertebrate species, and 4 for HT.

ADDRESSES: If you would like copies of any of the above documents, please contact the U.S. Fish and Wildlife Service, Ecological Services, P.O. Box 1306, Room 4012, Albuquerque, New Mexico, 87103.

FOR FURTHER INFORMATION CONTACT: Leslie Dierauf, Regional Habitat Conservation Plan Coordinator, P.O. Box 1306, Room 4012, Albuquerque, New Mexico, 87103, 505-248-6651. Further details of these permits may also be viewed on the Internet at http://ecos.fws.gov.

SUPPLEMENTARY INFORMATION: Section 9 of the Act and Federal Regulation prohibit the “take” of wildlife species listed as threatened or endangered species. Under the Act, the term “take” means to harass, harm, pursue, hunt, shoot, wound, kill, trap, capture, or collect listed wildlife, or to attempt to engage in any such conduct. The Service may, under limited circumstances, issue permits to authorize incidental take, i.e. that is incidental to, and not the purpose of, the carrying out of an otherwise lawful activity. Regulations governing permits for endangered species are at 50 CFR 17.22.

229 Incidental Take Permits Issued
Permittee | (State)Species | Permit No. | Date of issuance
Cornerstone #1 | (TX)HT | TE-021793-0 | 4/27/00
Ehler | (TX)HT | TE-021561-0 | 4/27/00
Sanchez | (TX)HT | TE-021792-0 | 4/27/00
SPS Builders | (TX)HT | TE-021532-0 | 5/10/00
Cook Classic Home | (TX)HT | TE-023593-0 | 5/19/00
Walters | (TX)HT | TE-021659-0 | 5/24/00
Hanks and Sims | (TX)HT | TE-024872-0 | 6/9/00
Tilley | (TX)HT | TE-023965-0 | 6/9/00
Johnson | (TX)GCW | TE-024873-0 | 7/17/00
Comanche Canyon Ranch | (TX)GCW | TE-004683-0 | 7/17/00
Crossings, The | (TX)HT | TE-024619-0 | 7/27/00
Berger | (TX)HT | TE-027260-0 | 7/28/00
Cantrell | (TX)HT | TE-025654-0 | 7/28/00
Hodges | (TX)HT | TE-025653-0 | 7/28/00
Cooper | (TX)HT | TE-027163-0 | 7/28/00
Manferd | (TX)HT | TE-025655-0 | 7/28/00
Cornerstone #2 | (TX)HT | TE-026687-0 | 7/28/00
Pettit | (TX)HT | TE-025656-0 | 7/28/00
Mixon | (TX)HT | TE-027746-0 | 8/17/00
Bush | (TX)HT | TE-029602-0 | 8/31/00
Macleod | (TX)HT | TE-025997-0-009 | 9/15/00
Ludwig/Wheeler | (TX)HT | TE-025997-0-001 | 9/15/00
Miles | (TX)HT | TE-029947-0 | 9/18/00
Broussard | (TX)HT | TE-029946-0 | 9/18/00
Decker | (TX)HT | TE-028087-0 | 9/18/00
Rush Green Builder | (TX)HT | TE-025997-0-033 | 9/18/00
Russo | (TX)HT | TE-029605-0 | 9/18/00
Aiello | (TX)GCW | TE-025965-0-001 | 9/28/00
Lake of the Woods | (TX)HT | TE-029780-0 | 9/28/00
Bastrop Co 4 Low Quality | (TX)HT | TE-025965-0-000 | 9/28/00
Bastrop Co 42 Medium Quality | (TX)HT | TE-025997-0-000 | 9/28/00
Bastrop Seventh Day Adventist | (TX)HT | TE-025997-0-003 | 10/2/00
Becerra | (TX)HT | TE-025997-0-004 | 10/2/00
Kummermehr | (TX)HT | TE-025997-0-010 | 10/2/00
Seifert | (TX)HT | TE-025997-0-005 | 10/2/00
Jarrels | (TX)HT | TE-025997-0-006 | 10/13/00
SEB Circle B Homes | (TX)Karst | TE-025997-0-011 | 10/13/00
McClure #1 | (TX)HT | TE-025997-0-014 | 10/13/00
McClure #2 | (TX)HT | TE-025997-0-015 | 10/13/00
Schena | (TX)HT | TE-029608-0 | 10/27/00
MacQueen | (TX)HT | TE-025997-0-021 | 10/31/00
Pierson | (TX)HT | TE-025997-025 | 11/21/00
Ligopn | (TX)HT | TE-025997-0-014 | 11/21/00
Smith, L | (TX)HT | TE-025997-0-024 | 11/21/00
Lindenau | (TX)HT | TE-025997-0-023 | 11/21/00
Kelley | (TX)HT | TE-025997-0-008 | 12/1/00
Johnson #2 | (TX)HT | TE-025997-0-027 | 12/21/00
Groves | (TX)HT | TE-025997-0-026 | 12/21/00
Niehus | (TX)HT | TE-025997-0-029 | 12/21/00
Walraven | (TX)HT | TE-033185 | 1/18/01
Gilfillan | (TX)HT | TE-33887-0 | 1/23/01
Gillespie | (TX)HT | TE-025997-0-032 | 1/29/01
Stahl | (TX)HT | TE-032117-0 | 1/29/01
Vavricek | (TX)HT | TE-025997-0-028 | 1/29/01
Holter | (TX)HT | TE-025997-0-030 | 1/29/01
Stobaugh #1 | (TX)HT | TE-025965-0-002 | 2/20/01
Steines | (TX)HT | TE-025965-0-003 | 2/20/01
Miller | (TX)HT | TE-025997-0-033 | 2/20/01
Nira | (TX)HT | TE-025997-0-034 | 2/20/01
Sinclair | (TX)HT | TE-025997-0-031 | 2/20/01
Walters | (TX)HT | TE-025997-0-036 | 2/20/01
Parker | (TX)HT | TE-025997-0-037 | 2/20/01
Gardner | (TX)HT | TE-025997-0-035 | 2/20/01
Live Oak Homes | (TX)HT | TE-025997-0-016 | 2/26/01
McClure #3 | (TX)HT | TE-025997-0-040 | 2/26/01
Cornerstone Construction #3 | (TX)HT | TE-025997-0-042 | 2/26/01
Havens | (TX)HT | TE-025997-0-038 | 3/1/01
Young | (TX)HT | TE-025965-0-004 | 3/9/01
Sultan & Kahn | (TX)HT | TE-035525-0 | 3/9/01
Roush | (TX)HT | TE-025997-0-041 | 3/9/01
Macafee | (TX)HT | TE-025997-0-039 | 3/9/01
Advantage Builders #1 | (TX)HT | TE-025997-0-045 | 3/23/01
Colter | (TX)HT | TE-025997-0-044 | 3/23/01
Bishop | (TX)HT | TE-025997-0-049 | 3/23/01
Miller | (TX)HT | TE-025965-0-047 | 3/23/01
McCluree #4 | (TX)HT | TE-025965-0-048 | 3/23/01
Advantage Builder #2 | (TX)HT | TE-025997-0-046 | 3/23/01
Mosley | (TX)HT | TE-025965-0-006 | 4/6/01
Slater | (TX)HT | TE-025965-0-007 | 4/6/01
Mendoza | (TX)HT | TE-025965-0-009 | 4/6/01
Smith, A | (TX)HT | TE-025965-0-008 | 4/6/01
Hansen | (TX)HT | TE-025965-0-010 | 4/6/01
Casey | (TX)HT | TE-025997-0-050 | 4/6/01
Wright | (TX)HT | TE-025997-0-043 | 4/25/01
CT-620 | (TX)GCW.. | TE-036095-0 | 4/30/01
Skye & Eckert | (TX)HT | TE-035908-0 | 4/30/01
Beeman | (TX)HT | TE-035919-0 | 4/30/01
DuCharme | (TX)HT | TE-025997-0-053 | 5/10/01
Shigo | (TX)HT | TE-025997-0-071 | 5/10/01
Juarez Construction, Inc | (TX)HT | TE-025965-0-016 | 5/10/01
Tod Phillips Homes #5 | (TX)HT | TE-025965-0-014 | 5/10/01
Tod Phillips Homes #16 | (TX)HT | TE-025965-1-015 | 5/10/01
Tod Phillips Homes #1 | (TX)HT | TE-025997-0-059 | 5/10/01
Tod Phillips Homes #2 | (TX)HT | TE-025997-0-060 | 5/10/01
Tod Phillips Homes #3 | (TX)HT | TE-025997-0-061 | 5/10/01
Tod Phillips Homes #64 | (TX)HT | TE-025997-0-064 | 5/10/01
Haeffner & Rostetter | (TX)HT | TE-025997-0-063 | 5/10/01
Glenn | (TX)HT | TE-025997-1-055 | 5/10/01
Stobaugh #2 | (TX)HT | TE-025997-0-011 | 5/10/01
Shen Inc. | (TX)HT | TE-025997-0-054 | 5/10/01
Goode | (TX)HT | TE-025997-0-062 | 5/10/01
West | (TX)HT | TE-025997-0-056 | 5/10/01
Hinkston | (TX)HT | TE-025997-0-057 | 5/10/01
Ingram #1 | (TX)HT | TE-025965-0-018 | 6/15/01
Conrad | (TX)HT | TE-025997-0-073 | 6/15/01
Cornerstone Construction #4 | (TX)HT | TE-025997-1-113 | 6/15/01
Alley | (TX)HT | TE-025965-0-017 | 6/15/01
Brigham | (TX)HT | TE-025997-0-0075 | 6/15/01
Martinez | (TX)HT | TE-025997-0-080 | 6/15/01
Brady | (TX)HT | TE-025997-0-075 | 6/15/01
Vasquez | (TX)HT | TE-037190-0 | 6/26/01
Harding | (TX)HT | TE-36096-0 | 6/28/01
Gray Mountain, Ltd | (TX)GCW | TE-037888-0 | 6/28/01
Bell | (TX)HT | TE-039440-0 | 6/28/01
Wirries | (TX)HT | TE-037191-0 | 7/1/01
JRS Builders #1 | (TX)HT | TE-025997-0-093 | 7/5/01
JRS Builders #2 | (TX)HT | TE-025997-0-094 | 7/5/01
City of Bastrop, Water Dept | (TX)HT | TE-025965-0-013 | 7/5/01
Kailing | (TX)HT | TE-025997-090 | 7/5/01
Ellington | (TX)HT | TE-025965-0-020 | 7/5/01
Wright | (TX)HT | TE-025965-0-019 | 7/5/01
McClure #5 | (TX)HT | TE-025997-0-097 | 7/27/01
McClure #6 | (TX)HT | TE-025997-0-098 | 7/27/01
Greenwood | (TX)HT | TE-025997-0-096 | 7/27/01
Howard | (TX)HT | TE-025997-0-058 | 7/27/01
Holberg | (TX)HT | TE-025997-1-100 | 8/1/01
Matl | (TX)HT | TE-025997-1-101 | 8/1/01
Bastrop County WCID #2 | (TX)HT | TE-025965-1-023 | 8/1/01
Steiwig | (TX)HT | TE-025997-1-099 | 8/3/01
Capstone Builders #1 | (TX)HT | TE-025965-1-021 | 8/3/01
Capstone Builders #2 | (TX)HT | TE-025965-1-022 | 8/3/01
Cornerstone Construction #5 | (TX)HT | TE-025997-0-104 | 8/23/01
Whited | (TX)HT | TE-025997-0-108 | 8/23/01
Fuller | (TX)HT | TE-025997-0-105 | 8/23/01
Myers | (TX)HT | TE-025997-0-109 | 8/27/01
Bowman Builders #1 | (TX)HT | TE-025997-0-081 | 8/27/01
Bowman Builders #2 | (TX)HT | TE-025997-0-082 | 8/27/01
Tyre | (TX)HT | TE-025997-1-106 | 8/27/01
Samaro | (TX)HT | TE-025997-1-107 | 8/27/01
Burnham | (TX)HT | TE-025997-1-111 | 9/10/01
Garcia | (TX)HT | TE-025997-1-113 | 9/10/01
Fernandez | (TX)HT | TE-025997-1-112 | 9/10/01
Taylor | (TX)HT | TE-025997-1-024 | 9/18/01
Serna | (TX)HT | TE-025997-1-114 | 9/18/01
Holcomb | (TX)HT | TE-041785-0 | 10/2/01
Nicholson | (TX)HT | TE-041784-0 | 10/10/01
Beathard | (TX)HT | TE-046419-0 | 10/10/01
Adams | (TX)HT | TE-041787-0 | 10/10/01
La Cantera | (TX)HT | TE-044512-0 | 10/22/01
Raz | (TX)HT | TE-042729-0 | 10/25/01
Scarpato | (TX)HT | TE-042733-0 | 10/26/01
Abell | (TX)HT | TE-025997-1-115 | 11/1/01
Briscoe | (TX)HT | TE-025997-1-120 | 11/1/01
Gonzales | (TX)HT | TE-025997-1-116 | 11/14/01
Attra | (TX)HT | TE-025965-1-029 | 11/14/01
Creamer | (TX)HT | TE-025965-1-027 | 11/14/01
Vogel | (TX)HT | TE-025997-1-123 | 11/14/01
King | (TX)HT | TE-025965-1-028 | 11/14/01
Juarez | (TX)HT | TE-025965-1-026 | 12/7/01
Beveridge | (TX)HT | TE-045264-0 | 12/13/01
Woodside Trails Wilderness | (TX)HT | TE-041786-0 | 12/13/01
Alley | (TX)HT | TE-025965-0-030 | 12/21/01
Erickson | (TX)HT | TE-025997-1-126 | 12/21/01
Whitfield | (TX)HT | TE-025997-1-125 | 12/21/01
McNulty | (TX)HT | TE-025965-1-031 | 12/21/01
Paradise Land & Cattle Co. #1 | (TX)HT | TE-025965-1-032 | 12/21/01
Paradise Land & Cattle Co #2 | (TX)HT | TE-025997-1-127 | 12/21/01
McClure #7 | (TX)HT | TE-025997-1-132 | 1/7/02
Scheuerman | (TX)HT | TE-025997-1-133 | 1/7/02
Sheuerman | (TX)HT | TE-025997-1-130 | 1/7/02
Ingram #2 | (TX)HT | TE-025965-1-035 | 1/7/02
Arcy | (TX)HT | TE-025997-1-129 | 1/7/02
Akin | (TX)HT | TE-045263-0 | 1/9/02
Millenium Custom Homes #2 | (TX)HT | TE-025997-0-139 | 1/30/02
Orta | (TX)HT | TE-025997-1-036 | 1/31/02
Alley #4 | (TX)HT | TE-025965-0-037 | 1/31/02
Alley #3 | (TX)HT | TE-025965-0-039 | 1/31/02
Morriss | (TH)HT | TE-025997-1-134 | 1/31/02
Hyatt | (TH)HT | TE-025997-1-138 | 1/31/01
Milliken | (TH)HT | TE-025997-1-137 | 1/31/01
Alley #5 | (TH)HT | TE-025965-0-038 | 1/31/01
Johnson #3 | (TH)HT | TE-025997-1-136 | 1/31/01
Gilpin | (TH)HT | TE-025997-1-135 | 1/31/01
Clayton | (TH)HT | TE-046417-0 | 2/14/02
Ribelin Ranch Partners, Ltd | (TH)HT | TE-40090-0 | 2/14/02
Jacobson | (TH)HT | TE-045267-0 | 2/14/02
Little | (TH)HT | TE-045265-0 | 2/14/02
Reams | (TH)HT | TE-042731-0 | 2/15/02
Jones | (TH)HT | TE-025997-1-140 | 2/19/02
Barnes | (TH)HT | TE-025965-1-041 | 2/21/02
Patton | (TH)HT | TE-025997-1-124 | 2/21/02
Nicholson | (TH)HT | TE-049665-0 | 2/26/02
Edwards | (TH)HT | TE-025997-1-141 | 3/4/02
Daggett | (TH)HT | TE-025997-1-145 | 3/21/02
Godwin | (TH)HT | TE-025965-1-043 | 3/21/02
Burgan | (TH)HT | TE-025997-1-144 | 3/21/02
Tapia | (TH)HT | TE-025997-1-146 | 3/21/02
Voicestream Wireless | (TH)HT | TE-025997-1-148 | 3/21/02
Odom | (TH)HT | TE-025997-1-147 | 3/21/02
JRS Builders #6 | (TH)HT | TE-025997-1-152 | 3/21/02
JRS Builders #5 | (TH)HT | TE-025997-1-151 | 3/21/02
JRS Builders #4 | (TH)HT | TE-025997-1-150 | 3/21/02
Jenkins | (TH)HT | TE-025997-1-143 | 3/21/02
JRS Builders #3 | (TH)HT | TE-025997-1-149 | 3/21/02
Smith, TM | (TH)HT | TE-025997-0-092 | 3/21/02
LCRA | (TH)HT | TE-046500-0 | 5/6/02
Williams | (TH)HT | TE-049666-0 | 6/5/02
Bartlett | (TH)HT | TE-049034-0 | 6/5/02
Paradise Lands & Cattle Co #3 | (TH)HT | TE-025997-1-154 | 6/11/02
McClure #8 | (TH)HT | TE-025997-1-132 | 6/25/02
Maldonado | (TH)HT | TE-025997-2-160 | 6/25/02
Parker | (TH)HT | TE-025997-1-159 | 6/25/02
Russel Park Estates | (TH)GCW | TE-051567-0 | 7/12/02
Nichols | (TH)HT | TE-025997-2-163 | 7/29/02
Travis | (TH)HT | TE-025997-1-158 | 7/31/02
Blairwood, Ltd./Silver Oa | (TH)GCW | TE-053021-0 | 8/5/02
King | (TH)HT | TE-025965-0-012 | 8/13/02
Dyer | (TH)HT | TE-025997-2-164 | 8/30/02
Yoch | (TH)HT | TE-025997-2-162 | 8/30/02
Parks | (TH)HT | TE-025997-2-165 | 9/30/02
Weinstein | (TH)HT | TE-025997-2-166 | 10/7/02
Angulo | (TH)HT | TE-049664-0 | 10/31/02
Vickers | (TH)HT | TE-025965-1-47 | 11/1/02
Goodwin | (TH)HT | TE-025965-2-048 | 12/3/02
May | (TH)HT | TE-025997-2-167 | 12/5/02
Laster/Pardue | (TH)HT | TE-053011-0 | 12/13/02
Bastrop County WCID #2 | (TH)HT | TE-025965-049 | 12/13/02

5 Amendments
Permittee | (State) species | Permit No. | Date of issuance
Sultan and Kahn Partners, Lt. | (TX)HT | TE-023822-00 | 12/19/02
Bastrop County 4 Low Quality | (TX)HT | TE-025965-1-000 | 7/27/01
Bastrop County 42 Med Quality | (TX)HT | TE-025997-1-000 | 7/27/01
Gaines | (TX)HT | TE-023822-1-1 | 2/19/02
Laughlin | (TX)HT | TE-023822-001 | 2/19/02

Susan MacMullin,
Acting Regional Director, Region 2.

[FR Doc. 03-8488 Filed 4-7-03; 8:45 am]

BILLING CODE 4510-55-P